DEPARTMENT OF ENERGY

Federal Energy Regulatory Commission

Notice of Intent To File Application for New License

November 18, 2003.

a. Type of filing: Notice of Intent to File Application for a New License.

b. Project No.: 2088-000.

c. Date filed: October 14, 2003.

d. Submitted By: South Feather Water and Power Agency.

e. Name of Project: South Fork Project.

f. Location: On the South Fork of the Feather River, Lost Creek, Slate Creek, near the City of Oroville, California, in Plumas, Butte and Yuba Counties, California. The project occupies land managed by the Plumas National Forest and the Bureau of Land Management.

g. Filed Pursuant to: Section 15 of the Federal Power Act; 18 CFR 16.6 of the Commission's regulations.

h. Effective date of current license: April 1, 1959.

i. Expiration date of current license: March 31, 2009.

j. The project consists of: The project consists of four developments. The Sly Creek Development consists of: (1) Four dams: Little Grass Valley, South Fork, Slate Creek, and Sly Creek diversion dams; (2) a diversion tunnel; (3) a penstock; (4) the Sly Creek powerhouse; and (5) a switchyard. The Woodleaf Development consists of (1) Lost Creek dam; (2) a power tunnel; (3) a penstock; (4) the Woodleaf powerhouse; and (5) a switchyard. The Forbestown Development consists of: (1) Forbestown diversion dam; (2) a power tunnel; (3) a penstock; (4) the Forbestown powerhouse; and (5) a switchyard. The Kelly Ridge Development consists of: (1) Pondersosa dam; (2) a diversion tunnel; (3) Miners Ranch conduit; (4) Miners Ranch tunnel; (5) Miners Ranch dam; (6) a power tunnel; (7) a penstock; (8) the Kelly Ridge powerhouse; and (9) a switchyard.

k. Pursuant to 18 CFR 16.7, information on the project is available at: Michael Glaze, South Feather Water and Power Agency, 2310 Oro-Quincy Highway, Oroville, CA 95966, (530) 533-4578

l. FERC contact: Tim Looney at (202) 502-6096 or by e-mail: timothy.looney@ferc.gov

m. Pursuant to 18 CFR 16.8, 16.9, and 16.10 each application for a new license and any competing license applications must be filed with the Commission at least 24 months prior to the expiration of the existing license. All applications for license for this project must be filed by [2 years before expiration of existing license].

n. A copy of this filing is available for review at the Commission in the Public Reference Room or may be viewed on the Commission's Web site at http://www.ferc.gov using the “eLibrary” link. Enter the docket number to access the document excluding the last three digits in the docket number field to access the document. For assistance, contact FERC Online Support at FERCOnlineSupport@ferc.gov or toll-free at 1-866-208-3676, or TTY 202-502-8659. A copy is also available for inspection and reproduction at the address in item k above.

o. Register online at http://www.ferc.gov/docs-filing/esubscription.asp to be notified via e-mail of new filings and issuances related to this or other pending projects. For assistance, contact FERC Online Support as shown in the paragraph above.

Magalie R. Salas,
Secretary.

[FR Doc. E3-00375 Filed 11-24-03; 8:45 am]

BILLING CODE 6717-01-P